DEPARTMENT OF AGRICULTURE

Foreign Agricultural Service

Trade Adjustment Assistance for Farmers

AGENCY: Foreign Agricultural Service, USDA.

ACTION: Notice.

The Administrator, Foreign Agricultural Service (FAS), today denied a petition for trade adjustment assistance (TAA) that was filed on February 23, 2004, by the Tropical Fruit Growers of South Florida, Inc., representing fresh longan producers from Florida.

SUPPLEMENTARY INFORMATION: Upon investigation, the Administrator determined that during the period 1998 to 2003, no imports of fresh longans were reported. Since no imports were reported, the petition did not meet the criteria of increased imports from the previous year.

FOR FURTHER INFORMATION, CONTACT: Jean-Louis Pajot, Coordinator, Trade Adjustment Assistance for Farmers, FAS, USDA, (202) 720-2916, e-mail: trade.assistance@fas.usda.gov.

Dated: April 1, 2004.
A. Ellen Terpstra,
Administrator, Foreign Agricultural Service.

[FR Doc. 04-7760 Filed 4-2-04; 8:45 am]

BILLING CODE 4310-10-M